TENNESSEE VALLEY AUTHORITY

Environmental Impact Statement—Northeastern Tributary Reservoirs Land Management Plan, Tennessee and Virginia

AGENCY: Tennessee Valley Authority.

ACTION: Notice of Intent.

SUMMARY: The Tennessee Valley Authority (TVA) will prepare an environmental impact statement (EIS) addressing the impacts of various alternatives for managing project lands on seven TVA tributary reservoirs in northeastern Tennessee and southwest Virginia. Public comment is invited concerning both the scope of the EIS and environmental issues that should be addressed as a part of this EIS.

DATES: Comments on the scope of the EIS and the environmental issues that should be addressed in the EIS should be received on or before June 5, 2008.

ADDRESSES: Written comments should be sent to Heather L. McGee, Tennessee Valley Authority, Post Office Box 1010, SB1H-M, Muscle Shoals, Alabama 35662-1010. Comments also may be submitted on the TVA Web site at http://www.tva.com/environment/reports/ntrres, by phone at (866) 601-4612, or by fax at (256) 386-2559.

FOR FURTHER INFORMATION CONTACT: D. Chris Cooper, Tennessee Valley Authority, 106 Tri-Cities Business Park Drive, Gray, Tennessee 37813. Telephone: (423) 585-2138. E-mail may be sent to Northeastern_Tributary_Reservoirs@tva.gov.

SUPPLEMENTARY INFORMATION:

Background

This notice is provided in accordance with the Council on Environmental Quality's regulations (40 CFR parts 1500 to 1503), TVA's procedures for implementing the National Environmental Policy Act (NEPA), and Section 106 of the National Historic Preservation Act (NHPA) and its implementing regulations (36 CFR part 800).

The Northeastern Tributary Reservoirs Land Management Plan (Plan) will address lands on the following reservoirs: Beaver Creek and Clear Creek in Washington County, Virginia; South Holston in Washington County, Virginia, and Sullivan County, Tennessee; Boone in Washington County, Tennessee; Fort Patrick Henry in Sullivan County, Tennessee; Watauga in Carter and Johnson Counties, Tennessee; and Wilbur in Carter County, Tennessee.

The length of the reservoir pools range from less than one mile for Beaver Creek to 24 miles for South Holston. TVA originally acquired a total of 10,952 acres of land above normal summer pool for these reservoirs and any associated hydroelectric generating facilities. Over the years, TVA has transferred a portion of this land to other public agencies, primarily the U.S. Forest Service, and has sold a majority of this land to various public and private entities. TVA presently owns a total of 4,946 acres of land on the reservoirs that are the subject of this Plan.

The Plan will allocate lands to various categories of uses in accordance with the following goals: (1) Apply a systematic method of evaluating and identifying the most suitable uses of TVA public lands using resource data, stakeholder input, suitability and capability analyses, and TVA staff input; (2) Identify land use zone allocations to optimize public benefit and balance competing demands for the use of public lands; (3) Identify land use zone allocations to support TVA's broad regional resource development mission, which involves the management of TVA reservoir properties to provide multiple public benefits including recreation, conservation, and economic development; (4) Provide a clear process by which TVA will respond to requests for use of TVA public land; (5) Comply with federal regulations and executive orders; (6) Ensure the protection of significant resources, including threatened and endangered species, cultural resources, wetlands, unique habitats, natural areas, water quality, and the visual character of the reservoir; and (7) Provide a mechanism that allows local, state, and federal infrastructure projects when the use is compatible with the zone allocation. Plans are submitted to the TVA Board of Directors for approval and adopted as guidelines for management of TVA public land consistent with the agency's responsibilities under the TVA Act of 1933.

Potential Alternatives

The EIS will analyze a range of alternative approaches to land allocation to implement the goals of TVA's land planning and to comply with the 2006 TVA Land Policy. Under the No Action Alternative, TVA would continue to rely on the Forecast System adopted by TVA in 1965 for four of the subject reservoirs and the existing Land Plan for Boone completed in 1999. Clear Creek and Beaver Creek would remain unplanned. Planned uses under the Forecast System are Dam Reservation, Public Recreation, Agricultural Research, Industry, Reservoir Operations, and Commercial Recreation. The planned uses for Boone Reservoir lands are TVA Project Operations, Sensitive Resource Management, Natural Resource Conservation, Recreation, and Residential Access.

One or more Action Alternatives are anticipated depending on the results of the public scoping and environmental analysis. Under any Action Alternative, TVA contemplates allocating lands into the following zones: Non-TVA Shoreland/Flowage Easement, TVA Project Operations, Sensitive Resource Management, Natural Resource Conservation, Industrial, Developed Recreation, and Shoreline Access. If there are multiple Action Alternatives, they would likely differ in the amount of land allocated to each of these zones.

Under all alternatives, TVA anticipates that lands currently committed to a specific use would be allocated to that current use. Under all Action Alternatives, changes that support TVA goals, objectives, and the Land Policy can be considered. Committed lands include those subject to existing long-term easements, leases, licenses, and contracts; lands with outstanding land rights; and lands that are necessary for TVA project operations. The committed lands total 4,578 acres or 93 percent of the 4,946 acres being planned. Uncommitted lands total 368 acres. The uncommitted lands are on Boone, Fort Patrick Henry, South Holston, Watauga, and Wilbur Reservoirs.

This EIS will tier from TVA's 1998 Final EIS, Shoreline Management Initiative: An Assessment of Residential Shoreline Development Impacts in the Tennessee Valley. That EIS evaluated alternative policies for managing residential shoreline development on TVA reservoirs. Residential shoreline occurs on Boone, Fort Patrick Henry, South Holston, and Watauga Reservoirs, and the Plan will not affect the policies for its management.

Proposed Issues To Be Addressed

The EIS will contain descriptions of the existing environmental and socioeconomic resources within the area that would be affected by the Plan. TVA's evaluation of potential impacts to these resources will include, but not necessarily be limited to, the potential impacts on water quality, water supply, aquatic and terrestrial ecology, endangered and threatened species, wetlands, prime farmlands, floodplains, recreation, aesthetics and visual resources, land use, historic and archaeological resources, and socioeconomic resources.

Scoping Process

Scoping, which is integral to the process for implementing NEPA, is a procedure that solicits public input to the EIS process to ensure that (1) issues are identified early and properly studied; (2) issues of little significance do not consume substantial time and effort; (3) the draft EIS is thorough and balanced; and (4) delays caused by an inadequate EIS are avoided. TVA's NEPA procedures require that the scoping process commence soon after a decision has been reached to prepare an EIS in order to provide an early and open process for determining the scope and for identifying the significant issues related to a proposed action. The range of alternatives and the issues to be addressed in the EIS will be determined, in part, from written comments and comments submitted orally on the phone or at any public meetings. The preliminary identification of reasonable alternatives and environmental issues in this notice is not meant to be exhaustive or final. Additional information on the planning process is available on the TVA Web site at http://www.tva.com/environment/reports/ntrres/.

TVA invites the participation of affected federal, state, and local agencies and Indian tribes, as well as other interested persons. Pursuant to the regulations of the Advisory Council on Historic Preservation implementing Section 106 of the NHPA, TVA also solicits comments on the potential of the proposed Plan to affect historic properties. This notice also provides an opportunity under Executive Orders 11990 and 11988 for early public review of the potential for TVA's Plan to affect wetlands and floodplains, respectively.

Comments on the scope of this EIS should be submitted no later than the date given under the DATES section of this notice. Any comments received, including names and addresses, will become part of the administrative record and will be available for public inspection.

TVA intends to hold a public scoping meeting on May 20, 2008. The open house style meeting will be held from 4-8 p.m. EDT at Sullivan Central High School, Blountville, Tennessee. Upon consideration of the scoping comments, TVA will develop alternatives and identify environmental issues to be addressed in the EIS. These will be described in a report that will be available to the public. Following analysis of the environmental consequences of each alternative, TVA will prepare a draft EIS for public review and comment. Notice of availability of the draft EIS will be published by the Environmental Protection Agency in the Federal Register. TVA will solicit comments on the draft EIS in writing and at public meetings to be held in the project area. TVA expects to release the draft EIS in early 2009 and the final EIS in the fall of 2009.

Bridgette K. Ellis,
Senior Vice President, Office of Environment and Research.

[FR Doc. E8-9721 Filed 5-2-08; 8:45 am]

BILLING CODE 8120-08-P